NUCLEAR REGULATORY COMMISSION

[Docket No. 50-298; NRC-2008-0617]

Nebraska Public Power District: Cooper Nuclear Station; Notice of Availability of the Final Supplement 41 to the Generic Environmental Impact Statement for License Renewal of Nuclear Plants

Notice is hereby given that the U.S. Nuclear Regulatory Commission (NRC, Commission) has published a final plant-specific supplement to the Generic Environmental Impact Statement for License Renewal of Nuclear Plants (GEIS), NUREG-1437, regarding the renewal of operating licenses DPR-46 for an additional 20 years of operation for the Cooper Nuclear Station (CNS). CNS is located near Brownville, Nebraska, on the Missouri River in Nemaha County. Possible alternatives to the proposed action (license renewal) include no action and reasonable alternative energy sources.

As discussed in Section 9.3 of the final Supplement 41, based on: (1) The analysis and findings in the GEIS; (2) the Environmental Report submitted by Nebraska Public Power District; (3) consultation with Federal, State, and local agencies; (4) the staff's own independent review; and (5) the staff's consideration of public comments, the recommendation of the staff is that the Commission determines that the adverse environmental impacts of license renewal for CNS are not so great that preserving the option of license renewal for energy-planning decision makers would be unreasonable.

The final Supplement 41 to the GEIS is publicly available at the NRC Public Document Room (PDR), located at One White Flint North, 11555 Rockville Pike, Rockville, Maryland 20852, or from the NRC's Agencywide Documents Access and Management System (ADAMS). The ADAMS Public Electronic Reading Room is accessible at http://www.nrc.gov/reading-rm/adams.html. The accession number for the final Supplement 41 to the GEIS is ML102100371. Persons who do not have access to ADAMS, or who encounter problems in accessing the documents located in ADAMS, should contact the NRC's Public Document Room Reference staff by telephone at 1-800-397-4209, or 301-415-4737 or by e-mail at pdr.resource@nrc.gov. In addition, the Auburn Memorial Library, located at 1810 Courthouse Avenue, Auburn, NE 68305, has agreed to make the final supplement to the GEIS available for public inspection.

FOR FURTHER INFORMATION CONTACT: Ms. Bennett M. Brady, Projects Branch 1, Division of License Renewal, Office of Nuclear Reactor Regulation, U.S. Nuclear Regulatory Commission, Mail Stop O-11F1, Washington, DC 20555-0001. Ms. Brady may be contacted at 1-800-368-5642, extension 2981 or via e-mail at Bennett.Brady@nrc.gov.

Dated at Rockville, Maryland, this 30th day of July, 2010.
For the Nuclear Regulatory Commission.
Andrew S. Imboden,
Chief, Environmental Review Branch, Division of License Renewal, Office of Nuclear Reactor Regulation.

[FR Doc. 2010-19564 Filed 8-6-10; 8:45 am]

BILLING CODE 7590-01-P